COMMODITY FUTURES TRADING COMMISSION

Sunshine Act Meetings

Time and Date: 11 a.m., Friday, June 27, 2003.

Place: 1155 21st St., NW., Washington, DC, 9th Floor Conference Room.

Status: Closed.

Matters To Be Considered: Surveillance Matters.

For Further Information Contact: Jean A. Webb, 202-418-5100.

Jean A. Webb,
Secretary of the Commission.

[FR Doc. 03-15228 Filed 6-12-03; 11:07 am]

BILLING CODE 6351-01-M